DEFENSE NUCLEAR FACILITIES SAFETY BOARD

Sunshine Act; Meeting

Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

Time and Date of Meeting: 9 a.m., March 22, 2007.

Place: Defense Nuclear Facilities Safety Board, Public Hearing Room, 625 Indiana Avenue, NW., Suite 300, Washington, DC 20004-2001. Additionally, as a part of the Board's E-Government initiative, the meeting will be presented live through Internet video streaming. A link to the presentation will be available on the Board's Web site (http://www.dnfsb.gov).

Status: Open. While the Government in the Sunshine Act does not require that the scheduled discussion be conducted in a meeting, the Board has determined that an open meeting in this specific case furthers the public interests underlying both the Sunshine Act and the Board's enabling legislation.

Matters to be Considered: This public hearing and meeting is the third in a series concerning the Department of Energy's (DOE) and National Nuclear Security Administration's (NNSA) incorporation of safety into the design and construction of new DOE defense nuclear facilities and into modification of existing facilities. The Board is responsible, pursuant to its statutory charter, to review and evaluate the content and implementation of standards relating to the design and construction of such facilities. This public hearing and meeting is a continuation of the Board's interest in integrating safety early into the design process. During the Board's initial public hearing on this subject, on December 7, 2005, the Board focused on the adequacy of DOE's existing directives related to the design of new facilities. In preparation for that hearing, DOE outlined its expectations for integrating safety into design and established a framework for achieving needed improvements. During the second public hearing on July 19, 2006, the Board further explored integration of safety into design and the progress being made in implementing DOE's safety in design initiatives. This third public hearing and meeting will consider early issue identification, communication of Board issues to DOE, issue management, and early resolution and closure of design related safety issues. The hearing will also address the implementation status of DOE Order 413.3 and DOE Standard (STD)-1189, the revision of DOE Manual 413.3-1, and lessons learned with respect to incorporating safety in design at two major Federal projects: the Waste Treatment Plant (WTP) project and the Chemistry and Metallurgy Research Replacement (CMRR) project. This hearing and meeting is intended to further assist the Board and DOE in their collective efforts to evaluate any needed improvements in the timeliness of issue resolution. The Board again expects to hear presentations from both DOE and NNSA senior management officials concerning integration of safety into design. The Board may also collect any other information relevant to health or safety of the workers and the public, with respect to safety in design, that may warrant Board action. The public hearing portion of this proceeding is authorized by 42 U.S.C. 2286b.

CONTACT PERSON FOR MORE INFORMATION: Brian Grosner, General Manager, Defense Nuclear Facilities Safety Board, 625 Indiana Avenue, NW., Suite 700, Washington, DC 20004-2901, (800) 788-4016. This is a toll-free number.

SUPPLEMENTARY INFORMATION: Requests to speak at the hearing may be submitted in writing or by telephone. The Board asks that commentators describe the nature and scope of their oral presentation. Those who contact the Board prior to close of business on March 21, 2007, will be scheduled for time slots, beginning at approximately 12:30 p.m. The Board will post a schedule for those speakers who have contacted the Board before the hearing. The posting will be made at the entrance to the Public Hearing Room at the start of the 9 a.m. hearing and meeting. Anyone who wishes to comment or provide technical information or data may do so in writing, either in lieu of, or in addition to, making an oral presentation. The Board Members may question presenters to the extent deemed appropriate. Documents will be accepted at the hearing and meeting or may be sent to the Defense Nuclear Facilities Safety Board's Washington, DC, office. The Board will hold the record open until April 21, 2007, for the receipt of additional materials. A transcript of the hearing and meeting will be made available by the Board for inspection by the public at the Defense Nuclear Facilities Safety Board's Washington office and at DOE's public reading room at the DOE Federal Building, 1000 Independence Avenue, SW., Washington, DC 20585.

The Board provides reasonable accommodation to individuals with disabilities where appropriate. If you need a reasonable accommodation to participate in this public hearing and meeting, or need this notice in another format (e.g. braille, large print), please notify Brian Grosner, General Manager, at the toll-free contact number listed above. Determination of requests for reasonable accommodation will be made on a case-by-case basis. The Board specifically reserves its right to further schedule and otherwise regulate the course of the meeting and hearing, to recess, reconvene, postpone, or adjourn the meeting and hearing, conduct further reviews, and otherwise exercise its power under the Atomic Energy Act of 1954, as amended.

Dated: January 24, 2007.
A.J. Eggenberger,
Chairman.

[FR Doc. 07-385 Filed 1-25-07; 12:19 pm]

BILLING CODE 3670-01-P